DEPARTMENT OF AGRICULTURE

Forest Service

South Mt. Baker-Snoqualmie Resource Advisory Committee

AGENCY: Forest Service, USDA.

ACTION: Notice of meeting.

SUMMARY: The South Mt. Baker-Snoqualmie (MBS) Resource Advisory Committee (RAC) will meet in North Bend, Washington on June 1 and 2, 2010. The committee is meeting to evaluate grant proposals for the 2009, 2010, and 2011 RAC allocations.

DATES: The meeting will be held on Tuesday, June 1, 2010 and on Wednesday June 2, 2010, from 9 a.m. to 5 p.m.

ADDRESSES: The meeting will be held at the Snoqualmie Ranger District located at 902 S.E. North Bend Way, North Bend, Washington, 98045-9545 in Building 9.

FOR FURTHER INFORMATION CONTACT: Jim Franzel, District Ranger, Snoqualmie Ranger District, phone (425) 888-1421, e-mail jfranzel@fs.fed.us. Individuals who use telecommunication devices for the deaf (TDD) may call the Federal Information Relay Service (FIRS) at 1-800-877-8339 between 8 a.m. and 8 p.m., Eastern Standard Time, Monday through Friday.

SUPPLEMENTARY INFORMATION: The meeting is open to the public. The committee will hear oral presentations from grant submitters and, at the conclusion of the meeting, recommend grant funding opportunities to the MBS Forest Supervisor. More information will be posted on the Mt. Baker-Snoqualmie National Forest Web site at: http://www.fs.fed.us/r6/mbs/projects/rac.shtm.

Comments may be sent via e-mail to jfranzel@fs.fed.us or via facsimile (fax) to 425-8881910. All comments, including names and addresses when provided, are placed in the record and are available for public inspection and copying. The public may inspect comments received at the Snoqualmie Ranger District office at 902 S.E. North Bend Way during regular office hours (Monday through Friday 8 a.m.-4:30 p.m.).

Dated: May 6, 2010.
Cynthia Tencick,
Acting Forest Supervisor.

[FR Doc. 2010-11408 Filed 5-13-10; 8:45 am]

BILLING CODE M